NATIONAL TRANSPORTATION SAFETY BOARD

Sunshine Act Meeting

Time and Date: 9:30 a.m., Tuesday, July 26, 2005.

Place: NTSB Board Room, 429 L'Enfant Plaza, SW., Washington, DC 20594.

Status: The one item is Open to the Public.

Matters to be Considered: 7642A Railroad Accident Report—Derailment of Amtrak Train No. 58, City of New Orleans, near Flora, Mississippi, April 6, 2004 (DCA-04-MR-008).

News Media Contact: Telephone: (202) 314-6100.

Individuals requesting specific accommodations should contact Ms. Carolyn Dargan at (202) 314-6305 by Friday, July 22, 2004.

The public may view the meeting via a live or achived webcast by accessing a link under “News & Events” on the NTSB home page at http://www.ntsb.gov.

For More Information Contact: Vicky D'Onofrio, (202) 314-6410.

Dated: July 15, 2004.
Vicky D'Onofiro,
Federal Register Liaison Officer.

[FR Doc. 05-14298 Filed 7-18-05; 12:08 pm]

BILLING CODE 7533-01-M